DEPARTMENT OF STATE

[Public Notice: 7159]

Determination Under Section 1010(a) of the Supplemental Appropriations Act, 2010 (Pub. L. 111-212)

Pursuant to section 1010(a) of the Supplemental Appropriations Act, 2010 (Pub. L. 111-212) and the authority vested in me by Delegation of Authority 245-1, I hereby determine that the Government of Mexico is continuing to:

(A) Improve the transparency and accountability of Federal police forces and to work with State and municipal authorities to improve the transparency and accountability of State and municipal police forces through mechanisms including police complaints commissions with authority and independence to receive complaints and carry out effective investigations;

(B) Conduct regular consultations with Mexican human rights organizations and other relevant Mexican civil society organizations on recommendations for the implementation of the Merida Initiative in accordance with Mexican and international law;

(C) Ensure that civilian prosecutors and judicial authorities are investigating and prosecuting, in accordance with Mexican and international law, members of the Federal police and military forces who have been credibly alleged to have violated internationally recognized human rights, and the Federal police and military forces are fully cooperating with the investigations; and

(D) Enforce the prohibition, in accordance with Mexican and international law, on the use of testimony obtained through torture or other ill-treatment.

This determination shall be reported to Congress and published in the Federal Register.

Dated: September 2, 2010.
James B. Steinberg,
Deputy Secretary of State.

[FR Doc. 2010-22647 Filed 9-9-10; 8:45 am]

BILLING CODE 4710-29-P